DEPARTMENT OF ENERGY

Federal Energy Regulatory Commission

[Project No. 3509-042]

Little Falls Hydroelectric Associates, LP; Notice of Intent To Prepare an Environmental Assessment

On August 31, 2021, Little Falls Hydroelectric Associates, LP (Little Falls Associates) filed an application for a new major license for the 13.3-megawatt Little Falls Hydroelectric Project (Little Falls Project; FERC No. 3509). The Little Falls Project is located on the Mohawk River, in the City of Little Falls, Herkimer County, New York. The project does not occupy federal land.

In accordance with the Commission's regulations, on May 25, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Little Falls Project.

The EA will be issued and circulated for review by all interested parties. All comments filed on the EA will be analyzed by staff and considered in the Commission's final licensing decision.

The application will be processed according to the following schedule. Revisions to the schedule may be made as appropriate.

Milestone | Target date
Commission issues EA | December 2022.¹
Comments on EA | January 2023.

Any questions regarding this notice may be directed to Monir Chowdhury at (202) 502-6736 or monir.chowdhury@ferc.gov.

¹ The Council on Environmental Quality's (CEQ) regulations under 40 CFR 1501.10(b)(1) require that EAs be completed within 1 year of the federal action agency's decision to prepare an EA. This notice establishes the Commission's intent to prepare an EA for the Little Falls Project. Therefore, in accordance with CEQ's regulations, the EA must be issued within 1 year of the issuance date of this notice.

Dated: August 22, 2022.
Kimberly D. Bose,
Secretary.

[FR Doc. 2022-18422 Filed 8-25-22; 8:45 am]

BILLING CODE 6717-01-P